DEPARTMENT OF STATE

[Public Notice 3286]

Bureau of Nonproliferation, Imposition of Missile Proliferation Sanctions Against Entities in North Korea and Iran

AGENCY: Department of State.

ACTION: Notice.

SUMMARY: The United States Government has determined that entities in North Korea and Iran have engaged in missile technology proliferation activities that require imposition of sanctions pursuant to the Arms Export Control Act, as amended, and the Export Administration Act of 1979, as amended (as carried out under Executive Order 12924 of August 19, 1994).

EFFECTIVE DATE: April 6, 2000.

FOR FURTHER INFORMATION CONTACT: Vann H. Van Diepen, Office of Chemical, Biological and Missile Nonproliferation, Bureau of Nonproliferation, Department of State (202-647-1142).

SUPPLEMENTARY INFORMATION: Pursuant to section 73(a)(1) of the Arms Export Control Act (22 U.S.C. 2797b(a)(1)), section 11B(b)(1) of the Export Administration Act of 1979 (50 U.S.C. app. 2401b(b)(1)), as carried out under Executive Order 12924 of August 19, 1994 (hereinafter cited as the “Export Administration Act of 1979”), and Executive Order 12851 of June 11, 1993, the United States Government determined on April 6, 2000, that the following foreign persons have engaged in missile technology proliferation activities that require the imposition of the sanctions described in sections 73(a)(2)(B) and (C) of the Arms Export Control Act (22 U.S.C. 2797b(a)(2)(B) and (C)) and sections 11B(b)(1)(B)(ii) and (iii) of the Export Administration Act of 1979 (50 U.S.C. app. 2410b(b)(1)(B)(ii) and (iii)) on these entities:

1. Changgwang Sinyong Corporation (North Korea) and its sub-units, successors, and affiliated companies;

2. The Ministry of Defense and Armed Forces Logistics (MODAFL) (Iran) and its sub-units and successors;

3. Aerospace Industries Organization (AIO) (Iran) and its sub-units and successors;

4. Shahid Hemmat Industrial Group (SHIG) (Iran) and its sub-units and successors; and

5. SANAM Industrial Group (Iran) and its sub-units and successors.

Accordingly, the following sanctions are being imposed on these entities:

(A) New individual licenses for exports to the entities described above of items controlled pursuant to the Export Administration Act of 1979 will be denied for two years;

(B) New licenses for export to the entities described above of items controlled pursuant to the Arms Export Control Act will be denied for two years;

(C) No new United States Government contracts involving the entities described above will be entered into for two years; and

(D) No products produced by the entities described above will be imported into the United States for two years.

With respect to items controlled pursuant to the Export Administration Act of 1979, the export sanction only applies to exports made pursuant to individual export licenses.

Additionally, because North Korea is a country with a non-market economy that is not a former member of the Warsaw Pact (as referenced in the definition of “person” in section 74(8)(B) of the Arms Export Control Act (22 U.S.C. 2797c(8)(B)), the following sanctions shall be applied to all activities of the North Korean government relating to the development or production of missile equipment or technology and to all activities of the North Korean government affecting the development or production of electronics, space systems or equipment, and military aircraft:

(A) New licenses for export to the government activities described above of items controlled pursuant to the Arms Export Control Act will be denied for two years;

(B) No new U.S. Government contracts involving the government activities described above will be entered into for two years; and

(C) No products produced by the government activities described above will be imported into the United States for two years.

These measures shall be implemented by the responsible agencies as provided in Executive Order 12851 of June 11, 1993.

Dated: April 7, 2000.
Robert J. Einhorn,
Assistant Secretary of State for Nonproliferation, Department of State.

[FR Doc. 00-9349 Filed 4-13-00; 8:45 am]

BILLING CODE 4710-25-U